ENVIRONMENTAL PROTECTION AGENCY

[ER-FRL-6673-7]

Environmental Impacts Statements; Notice of Availability

Responsible Agency: Office of Federal Activities, General Information (202) 564-7167 or http://www.epa.gov/compliance/nepa/.

Weekly receipt of Environmental Impact Statements

Filed March 20, 2006 through March 24, 2006

Pursuant to 40 CFR 1506.9.

EIS No. 20060098, Final EIS, FHW, OR, Spencer Creek Bridge U.S. Highway 101 Replacement Project, To Maintain the Connectivity and Highway Functions of U.S. 101 between Otter rock and Watt Creek, Funding, Lincoln County, OR, Wait Period Ends: May 1, 2006, Contact: Michelle Eraut 503-587-4716.

EIS No. 20060099, Final EIS, AFS, CO, Vail Valley Forest Health Project, Landscape-Scale Vegetation Management and Fuels Reduction, White River National Forest, Holy Cross Ranger District, Eagle County, CO, Wait Period Ends: May 1, 2006, Contact: Peech Keller 970-262-3495.

EIS No. 20060100, Final EIS, FRC, WA, Lewis River Hydroelectric Projects, Relicensing the Swift No. 1 (FERC No. 2111-018), Swift No. 2 (FERC No. 2213-011), Yale (FERC No. 2071-013), Merwin (FERC No. 935-053) Project, Application for Relicense, North Fork Lewis River, Cowlitz, Clark and Shamania Counties, WA, Wait Period Ends: May 1, 2006, Contact: Todd Sedmark 1-866-208-3372.

EIS No. 20060101, Revised Draft EIS, UAF, FL, Eglin Air Force Base and Hurlburt Field, New Revision to Preferred Alternatives, Military Family Housing Demolition, Construction, Renovation, and Leasing (DCR & L) Program, Okaloosa County, FL, Comment Period Ends: May 15, 2006, Contact: Shari Kilbourne 937-656-2926.

EIS No. 20060102, Final EIS, NOA, WV, Canaan Valley Institute Office Complex, Proposes to Construct: Offices, Classrooms, Laboratories, 250-Seat Auditorium, Parking Facilities, Outdoor Classrooms and Interpretive Areas, U.S. Army COE Section 404 Permit, Southeast of the Towns of Davis and Thomas, Tucker County, WV, Wait Period Ends: May 1, 2006, Contact: Jim Rawson 800-922-3601.

EIS No. 20060103, Final EIS, BLM, ID, Cotterel Wind Power Project and Draft Resource Management Plan Amendment, To Build a 190-240 megawatt, Wind-Powered Electrical Generation Facility, Right-of-Way Application, City of Burley, Towns of Albion and Malta, Cassia County, ID, Wait Period Ends: May 1, 2006, Contact: Scott D. Barker 208-677-6678.

EIS No. 20060104, Final EIS, BLM, 00, Programmatic—Proposed Revision to Grazing Regulations for the Public Lands, 42 CFR part 4100, in the Western Portion of the United States, Wait Period Ends: May 1, 2006, Contact: E. Lynn Burkett 202-785-6594.

EIS No. 20060105, Draft EIS, COE, WV, Spruce No. 1 Mine, Construction and Operation, Mining for 2.73 Million Ton of Bituminous Coal, NPDES Permit and U.S. Army COE Section 404 Permit, Logan County, WV, Comment Period Ends: May 15, 2006, Contact: Teresa Spagna 304-399-5710.

EIS No. 20060106, Draft EIS, AFS, ID, Clear Prong Project, Timber Harvest, Temporary Road Construction, Road Maintenance, Road Decommissioning, Thinning of Sub-Merchantable Tree, and Prescribed Fire, Boise National Forest, Cascade Ranger District, Valley County, ID, Comment Period Ends: May 15, 2006, Contact: Richard A. Smith 208-373-4100.

EIS No. 20060107, Final EIS, AFS, VT, Green Mountain National Forest, Propose Revised Land and Resource Management Plan, Implementation, Forest Plan Revision, Addison, Bennington, Rutland, Washington, Windham and Windsor Counties, VT, Wait Period Ends: May 1, 2006, Contact: Jay Strand 802-767-4261.

Amended Notices

EIS No. 20060004, Final EIS, FHW, MD, Intercounty Connector (ICC) from I-270 to US-1, Funding and US Army COE Section 404 Permit, Montgomery and Prince George's Counties, MD, Wait Period Ends: April 11, 2006, Contact: Dan Johnson 410-779-7154.

Revision of FR Notice Published on January 16, 2006: Comment Period Extended from March 23, 2006 to April 11, 2006.

EIS No. 20060045, Draft EIS, AFS, ID, Payette National Forest Travel Management Plan, Designate a System of Road, Trails and Areas Open to Motorized and Non-Motorized Use, Implementation, Adam, Washington, Idaho, Valley Counties, ID, Comment Period Ends: May 19, 2006, Contact: Ana Egnew 208-634-0600.

Revision to FR Notice Published February 17, 2006: Comment Period Extended from April 3, 2006 to May 19, 2006.

Dated: March 28, 2006.
Ken Mittelholtz,
Environmental Protection Specialist, NEPA Compliance Division, Office of Federal Activities.

[FR Doc. E6-4727 Filed 3-30-06; 8:45 am]

BILLING CODE 6560-50-P